FEDERAL COMMUNICATIONS COMMISSION

47 CFR Parts 1, 27 and 73

[AU Docket No. 14-252; GN Docket No. 12-268; DA 15-143]

Comment Sought on Competitive Bidding Procedures for Broadcast Incentive Auction 1000, Including 1001 and 1002

AGENCY: Federal Communications Commission.

ACTION: Proposed rule; proposed auction procedures; extension of comment deadline.

SUMMARY: In this document, the Wireless Telecommunications Bureau (Bureau) further extends the deadline for filing comments on the Auction 1000 Request for Comment, which initiates the pre-auction process by which the Federal Communications Commission will develop detailed procedures for the broadcast television spectrum incentive auction, taking into account public comment received in response to its proposals.

DATES: Comments are due on or before February 20, 2015, and reply comments are due on or before March 13, 2015.

ADDRESSES: You may submit comments to the Auction 1000 Request for Comment, identified by GN Docket No. 12-268 and AU Docket No. 14-252 by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (braille, large print, electronic files, or audio format), send an email to fcc504@fcc.gov or call the Consumer & Governmental Affairs Bureau at 202-418-0530 (voice), 202-418-0432 (TTY).

FOR FURTHER INFORMATION CONTACT: Wireless Telecommunications Bureau, Auctions and Spectrum Access Division: Erin Griffith at (202) 418-0660.

SUPPLEMENTARY INFORMATION: This is a summary of the Bureau's Order in GN Docket No. 12-268, AU Docket No. 14-252, DA 15-143, adopted and released on January 30, 2015. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/.

Summary

1. The Bureau released an Order on January 30, 2015, which further extends the deadline for filing comments in response to the Auction 1000 Request for Comment, 80 FR 4816, January 29, 2015. Comments are now due by February 20, 2015. The deadline for filing reply comments is unchanged and remains March 13, 2015.

2. On December 17, 2014, the Federal Communications Commission (Commission) released the Auction 1000 Request for Comment, initiating the pre-auction process to develop procedures necessary to carry out the broadcast television spectrum incentive auction. The Auction 1000 Request for Comment set forth specific proposals on auction design issues and sought public comment on those proposals. Extending the comment deadline will enable parties to take into account more complete information about the results of bidding in Auction 97, which concluded on January 29, 2015 and for which full information files from bidding in the auction are now publicly available.

3. Pursuant to sections 4(i), 4(j), and 5(c) of the Communications Act of 1934, as amended, and pursuant to the authority delegated in 47 CFR 0.131 and 0.331 the Bureau extends the deadline for filing comments until February 20, 2015.

Federal Communications Commission.
Gary D. Michaels,
Deputy Chief, Auctions and Spectrum Access Division, WTB.

[FR Doc. 2015-02728 Filed 2-9-15; 8:45 am]

BILLING CODE 6712-01-P